DEPARTMENT OF TRANSPORTATION

Federal Aviation Administration

14 CFR Part 39

[Docket No. FAA-2011-0956; Directorate Identifier 2011-NE-23-AD]

RIN 2120-AA64

Airworthiness Directives; Thielert Aircraft Engines GmbH (TAE) TAE 125-02-99 and TAE 125-02-114 Reciprocating Engines

AGENCY: Federal Aviation Administration (FAA), DOT.

ACTION: Notice of proposed rulemaking (NPRM).

SUMMARY: We propose to adopt a new airworthiness directive (AD) for the products listed above. This proposed AD results from mandatory continuing airworthiness information (MCAI) issued by an aviation authority of another country to identify and correct an unsafe condition on an aviation product. The MCAI describes the unsafe condition as:

In-flight engine shutdown incidents have been reported on aeroplanes equipped with TAE 125 engines. Preliminary investigations showed that it was mainly the result of the sensitivity of friction disk Part Number (P/N) 05-7211-K010201 against possible misalignment of gearbox and core engine during assembly.

This condition, if not corrected, could result in further cases of engine in-flight shutdown and consequent loss of control of the aeroplane.

To address this unsafe condition, Thielert Aircraft Engines GmbH has developed a new friction disk.

We are proposing this AD to prevent in-flight engine shutdown, which could result in loss of control of the airplane.

DATES: We must receive comments on this proposed AD by December 2, 2011.

ADDRESSES: You may send comments by any of the following methods:

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: 202-493-2251.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (phone: 800-647-5527) is the same as the Mail address provided in the ADDRESSES section. Comments will be available in the AD docket shortly after receipt.

FOR FURTHER INFORMATION CONTACT: Alan Strom, Aerospace Engineer, Engine Certification Office, FAA, 12 New England Executive Park, Burlington, MA; phone: 781-238-7143; fax: 781-238-7199; e-mail: alan.strom@faa.gov.

SUPPLEMENTARY INFORMATION:

Comments Invited

We invite you to send any written relevant data, views, or arguments about this proposed AD. Send your comments to an address listed under the ADDRESSES section. Include “Docket No. FAA-2011-0956; Directorate Identifier 2011-NE-23-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Discussion

The European Aviation Safety Agency (EASA), which is the Technical Agent for the Member States of the European Community, has issued EASA AD 2011-0087-E, dated May 12, 2011 (referred to after this as “the MCAI”), to correct an unsafe condition for the specified products. The MCAI states:

In-flight engine shutdown incidents have been reported on aeroplanes equipped with TAE 125 engines.

Preliminary investigations showed that it was mainly the result of the sensitivity of friction disk Part Number (P/N) 05-7211-K010201 against possible misalignment of gearbox and core engine during assembly.

This condition, if not corrected, could result in further cases of engine in-flight shutdown and consequent loss of control of the aeroplane.

To address this unsafe condition, Thielert Aircraft Engines GmbH has developed a new friction disk.

We are proposing this AD to require replacement of affected friction disks, which would resolve the unsafe condition described above. You may obtain further information by examining the MCAI in the AD docket.

FAA's Determination and Requirements of This Proposed AD

This product has been approved by the aviation authority of Germany, and is approved for operation in the United States. Pursuant to our bilateral agreement with the European Community, EASA notified us of the unsafe condition described in the MCAI and service information referenced above. We are proposing this AD because we evaluated all information provided by EASA and determined the unsafe condition exists and is likely to exist or develop on other products of the same type design. This proposed AD would require on all TAE 125-02-99 and TAE 125-02-114 reciprocating engines, replacing the friction disk, P/N 05-7211-K010201.

Costs of Compliance

Based on the service information, we estimate that this proposed AD would affect about 206 TAE 125-02-99 and TAE 125-02-114 reciprocating engines installed on airplanes of U.S. registry. We also estimate that it would take about 3 work-hours per engine to comply with this proposed AD. The average labor rate is $85 per work-hour. Required parts would cost about $1,500 per engine. Based on these figures, we estimate the cost of the proposed AD on U.S. operators to be $361,530. Our cost estimate is exclusive of possible warranty coverage.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Thielert Aircraft Engines GmbH: Docket No. FAA-2011-0956; Directorate Identifier 2011-NE-23-AD.

(a) Comments Due Date

We must receive comments by December 2, 2011.

(b) Affected ADs

None.

(c) Applicability

This AD applies to all Thielert Aircraft Engines GmbH TAE 125-02-99 and TAE-125-02-114 reciprocating engines with friction disk, part number (P/N) 05-7211-K010201, installed.

(d) Reason

This AD results from mandatory continuing airworthiness information (MCAI) issued by an aviation authority of another country to identify and correct an unsafe condition on an aviation product. The MCAI describes the unsafe condition as:

In-flight engine shutdown incidents have been reported on aeroplanes equipped with TAE 125 engines. Preliminary investigations showed that it was mainly the result of the sensitivity of friction disk Part Number (P/N) 05-7211-K010201 against possible misalignment of gearbox and core engine during assembly.

This condition, if not corrected, could result in further cases of engine in-flight shutdown and consequent loss of control of the aeroplane.

To address this unsafe condition, Thielert Aircraft Engines GmbH has developed a new friction disk.

We are issuing this AD to prevent in-flight engine shutdown, which could result in loss of control of the airplane.

(e) Actions and Compliance

Unless already done, do the following actions.

(1) TAE 125-02-99 Engines, P/Ns 05-7200-K000201; 05-7200-K000701; 05-7200-K000101; 05-7200-K000901; 05-7200-K001101; and 05-7200-K001301; and TAE 125-02-114 Engines, P/Ns 05-7200-K000501; 05-7200-K000801; and 05-7200-K001401

For TAE 125-02-99 engines, P/Ns 05-7200-K000201; 05-7200-K000701; 05-7200-K000101; 05-7200-K000901; 05-7200-K001101; and 05-7200-K001301; and TAE 125-02-114 engines, P/Ns 05-7200-K000501; 05-7200-K000801; and 05-7200-K001401, remove friction disk, P/N 05-7211-K010201, within 100 flight hours (FH) time-since-new (TSN) on the clutch or within 10 FH time-in-service (TIS) after the effective date of this AD, whichever is later.

(2) TAE 125-02-99 Engines, P/Ns 05-7200-K000301

For TAE 125-02-99 engines, P/N 05-7200-K000301, installed on multiengine aircraft, remove friction disk, P/N 05-7211-K010201, on one engine within 100 FH TSN on the clutch or within 10 FH TIS after the effective date of this AD, whichever is later. Remove friction disk, P/N 05-7211-K010201, from the other engine within 300 FH TSN on the clutch or within 10 FH TIS after the effective date of this AD, whichever is later.

(f) Installation Prohibition

After the effective date of this AD:

(1) Do not install any friction disk, P/N 05-7211-K010201, into any engine.

(2) Do not install any TAE 125-02-99 engine, P/N 05-7200-K000201, 05-7200-K000301, or 05-7200-K000701, or TAE 125-02-114 engine, P/N 05-7200-K00801 or 05-7200-K00501, that has a friction disk, P/N 05-7211-K010201 installed, onto any airplane.

(g) Operating Prohibition

Do not operate any multi-engine aircraft after 300 FH TSN on the clutch or 10 FH TIS after the effective date of this AD, whichever is later, which has installed a friction disk, P/N 05-7211-K010201.

(h) FAA AD Differences

The MCAI mandates the replacement friction disk P/N. This AD does not.

(i) Alternative Methods of Compliance (AMOCs)

The Manager, Engine Certification Office, FAA, has the authority to approve AMOCs for this AD, if requested using the procedures found in 14 CFR 39.19.

(j) Related Information

(1) Refer to MCAI EASA Airworthiness Directive 2011-0087-E, dated May 12, 2011, and Thielert Service Bulletin No. TM TAE 125-1013 P1, for related information. Contact Thielert Aircraft Engines GmbH, Platanenstrasse 14 D-09350, Lichtenstein, Germany, telephone: +49-37204-696-0; fax: +49-37204-696-55; e-mail: info@centurion-engines.com, for a copy of this service information.

(2) Contact Alan Strom, Aerospace Engineer, Engine Certification Office, FAA, 12 New England Executive Park, Burlington, MA; phone: 781-238-7143; fax: 781-238-7199; e-mail: alan.strom@faa.gov, for more information about this AD.

Issued in Burlington, Massachusetts, on October 4, 2011.
Peter A. White,
Manager, Engine and Propeller Directorate, Aircraft Certification Service.

[FR Doc. 2011-26827 Filed 10-17-11; 8:45 am]

BILLING CODE 4910-13-P